ENVIRONMENTAL PROTECTION AGENCY

40 CFR Part 52

[EPA-R05-OAR-2005-OH-0003; FRL-9187-4]

Approval and Promulgation of Air Quality Implementation Plans; Ohio; Final Approval and Promulgation of State Implementation Plans; Carbon Monoxide and Volatile Organic Compounds

AGENCY: Environmental Protection Agency (EPA).

ACTION: Final rule.

SUMMARY: Under section 110(k)(3) of the Clean Air Act (CAA), EPA is disapproving an Ohio regulation revision pertaining to volatile organic compound (VOC) limits for high performance architectural coatings contained in Ohio Administrative Code (OAC) 3745-21-09(U)(1)(h). Under section 110(k)(4) of the CAA, we are also conditionally approving a revision of paragraph (BBB)(1) of OAC 3745-21-09, based on a State commitment to provide for enforceability of a pertinent limit no later than one year from the date of EPA's conditional approval.

DATES: This final rule is effective on September 16, 2010.

ADDRESSES: EPA has established a docket for this action under Docket ID No. EPA-R05-OAR-2005-OH-0003. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Anthony Maietta, Environmental Protection Specialist, at (312) 353-8777 before visiting the Region 5 office.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: Throughout this document whenever “we,” “us,” or “our” is used, we mean EPA. This supplementary information section is arranged as follows:

I. What Were EPA's Proposed Actions?

II. Public Comments and EPA Responses

III. What Actions is EPA Taking?

IV. Statutory and Executive Order Reviews

I. What Were EPA's Proposed Actions?

On January 22, 2010 (75 FR 3668), EPA proposed a variety of actions regarding revisions to OAC 3745-21, from submittals dated October 9, 2000, February 6, 2001, August 3, 2001, and June 24, 2003. We proposed to (1) approve into the State Implementation Plan (SIP) certain revisions in OAC 3745-21 which have been adopted by the State; (2) disapprove a revision pertaining to high performance architectural coatings; (3) conditionally approve a revision of paragraph (BBB)(1) of OAC 3745-21-09, if the State gives EPA a letter that commits to provide for enforceability of the 1 ton per year limit no later than one year from the expected date of EPA's conditional approval; (4) take no action on certain regulation revisions, and, (5) provide notice that EPA and Ohio have created a mechanism to incorporate into the Ohio SIP permits to facilities operating under previously issued alternate VOC limit and emission control exemptions for miscellaneous metal coating operations under OAC 3745-21-09(U)(2)(f). For administrative convenience, in a separate rulemaking published June 21, 2010, at 75 FR 34939, we approved certain submitted regulation revisions, took no action on others, and recognized various emission control exemptions that have been granted for miscellaneous metal coating operations under OAC 3745-21-09(U)(2)(f). Today's action makes final our disapproval and conditional approval of portions of OAC rule 3745-21-09. You can learn more information about the rule revisions submitted and our evaluation of them in our proposed action.

II. Public Comments and EPA Responses

EPA's proposed action provided a 30-day public comment period. We did not receive any comments on the proposed action. On March 1, and July 2, 2010, Ohio EPA committed to remedy deficiencies in OAC 3745-21-09(BBB)(1).

III. What Actions is EPA Taking?

EPA is disapproving the coating VOC content limit for high performance architectural aluminum coatings contained in paragraph (U)(1)(h) of OAC 3745-21-09 because the State has not demonstrated that the relaxation of the VOC content limit for high performance architectural aluminum coatings would not interfere with attainment of the ozone standard and other requirements. EPA is conditionally approving a revision to OAC 3745-21-09(BBB)(1) provided that the State is able to, within one year of our final rulemaking, further revise the paragraph to include test procedures and recordkeeping requirements compatible with the paragraph's revised emission limit. On March 1, and July 2, 2010, Ohio EPA committed to remedy the deficiencies in this revision. If the State fails to correct this rule and confirm this correction within the allowed one year period, this conditional approval will revert to disapproval.

IV. Statutory and Executive Order Reviews

Executive Order 12866: Regulatory Planning and Review

Under Executive Order 12866 (58 FR 51735, October 4, 1993), this action is not a “significant regulatory action” and, therefore, is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175: Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (59 FR 22951, November 9, 2000).

Executive Order 13132: Federalism

This action also does not have Federalism implications because it does not have substantial direct effects on the states, on the relationship between the national government and the states, or on the distribution of power and responsibilities among the various levels of government, as specified in Executive Order 13132 (64 FR 43255, August 10, 1999). This action merely approves a state rule implementing a Federal standard, and does not alter the relationship or the distribution of power and responsibilities established in the Clean Air Act (CAA).

Executive Order 13045: Protection of Children From Environmental Health and Safety Risks

This rule also is not subject to Executive Order 13045 “Protection of Children from Environmental Health Risks and Safety Risks” (62 FR 19885, April 23, 1997), because it approves a state rule implementing a Federal Standard.

National Technology Transfer Advancement Act

In reviewing state submissions, EPA's role is to approve state choices, provided that they meet the criteria of the CAA. In this context, in the absence of a prior existing requirement for the state to use voluntary consensus standards (VCS), EPA has no authority to disapprove a state submission for failure to use VCS. It would thus be inconsistent with applicable law for EPA, when it reviews a state submission, to use VCS in place of a state submission that otherwise satisfies the provisions of the CAA. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the CAA, petitions for judicial review of this action must be filed in the United States Court of Appeals for the appropriate circuit by October 18, 2010. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Volatile organic compounds.

Dated: August 3, 2010.
Bharat Mathur,
Acting Regional Administrator, Region 5.

40 CFR part 52 is amended as follows:

PART 52—[AMENDED]

1. The authority citation for part 52 continues to read as follows:

Authority: 42 U.S.C. 7401 et seq.

Subpart KK—Ohio

2. Section 52.1885 is amended by adding paragraph (kk) to read as follows:

§ 52.1885 Control strategy: Ozone.

* * * * *

(kk) Disapproval. EPA is disapproving the coating VOC content limit for high performance architectural aluminum coatings contained in paragraph (U)(1)(h) of chapter 3745-21-09 of the Ohio Administrative Code.

3. Section 52.1919 is amended by adding paragraph (b) to read as follows:

§ 52.1919 Identification of plan—conditional approval.

* * * * *

(b) On October 9, 2000, the Ohio Environmental Protection Agency submitted a revision to Ohio Administrative Code (OAC) 3745-21-09(BBB). The revision removed a requirement that for the agerite resin D process, the VOC emissions from the vapor recovery system vents and neutralization and distillation system vents (except wash kettle or still feed condenser vents, stills vacuum jet tailpipe vents, and process emergency safety relief devices) be vented to an emissions control device that is designed and operated to achieve an emissions control efficiency of at least 90 percent, by weight. In place of this deleted emissions control efficiency requirement, the revised paragraph now specifies a total annual VOC emissions limit of 1.0 ton from the recovery system and neutralization and distillation system vents. The revision lacked test procedures and record keeping requirements compatible with the revised emission limit. On March 1, 2010, Ohio submitted a commitment to revise OAC 3745-21-09(BBB) to include the necessary test procedures and record keeping requirements by September 16, 2011. When EPA determines the state has met its commitment, OAC 3745-21-09(BBB) will be incorporated by reference into the SIP.

[FR Doc. 2010-19827 Filed 8-16-10; 8:45 am]

BILLING CODE 6560-50-P